INTERNATIONAL TRADE COMMISSION

[Inv. No. 337-TA-511]

Certain Pet Food Treats; Notice of Decision Not to Review an Initial Determination Granting Motion of Alan Lee Distributors, Inc. for Summary Determination of Non-Infringement; Termination of the Investigation as to Alan Lee Distributors, Inc.

AGENCY: U.S. International Trade Commission.

ACTION: Notice.

SUMMARY: Notice is hereby given that the U.S. International Trade Commission has determined not to review an initial determination (ID) issued by the presiding administrative law judge (ALJ) granting the motion of Alan Lee Distributors, Inc. (ADI) for summary determination of non-infringement in the above-captioned investigation.

FOR FURTHER INFORMATION CONTACT: Andrea Casson, Esq., Office of the General Counsel, U.S. International Trade Commission, 500 E Street, SW., Washington, DC 20436, telephone 202-205-3105. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on June 8, 2004, based on a complaint filed by Thomas J. Baumgartner and Hillbilly Smokehouse, Inc., both of Rogers, Arkansas. 69 FR 32044. The complaint alleges violations of section 337 of the Tariff Act of 1930, 337 U.S.C. § 1337, in the importation into the United States, sale for importation, or sale within the United States after importation of certain pet food treats that infringe U.S. Design Patent No. 383,886 (“the 886‘ patent”). The notice of investigation lists six companies as respondents, including ADI.

On December 13, 2005, ADI filed a motion for partial summary determination of non-infringement. Complainants filed a response in opposition to the motion. The Commission investigative attorney filed a response in support of the motion. On January 10, 2005, the ALJ issued an ID (Order No. 13) granting ADI's motion for summary determination. No petitions for review of the ID were filed.

This action is taken under the authority of section 337 of the Tariff Act of 1930, 19 U.S.C. 1337, and 210.42 (h)(3) of the Commission Rules of Practice and Procedure, 19 CFR § 210.42(h)(3).

Issued: February 3, 2005.
By order of the Commission.
Marilyn R. Abbott,
Secretary to the Commission.

[FR Doc. 05-2461 Filed 2-8-05; 8:45 am]

BILLING CODE 7020-02-P